DEPARTMENT OF COMMERCE

International Trade Administration

[A-423-808]

Stainless Steel Plate in Coil From Belgium: Amended Final Results of Antidumping Duty Administrative Review

AGENCY: Import Administration, International Trade Administration, U.S. Department of Commerce.

SUMMARY: On December 14, 2004, the Department of Commerce (the Department) published the final results of its administrative review of the antidumping duty order on stainless steel plate in coils from Belgium for the period May 1, 2002, through April 30, 2003. See Stainless Steel Plate in Coils from Belgium: Final Results of Antidumping Duty Administrative Review, 69 FR 74495 (December 14, 2004) (Final Results). We are amending our Final Results to correct ministerial errors alleged by Ugine and ALZ Belgium (Respondent) pursuant to section 751(h) of the Tariff Act of 1930, as amended (the Act).

EFFECTIVE DATE: January 19, 2005.

FOR FURTHER INFORMATION CONTACT: Toni Page or Elfi Blum, AD/CVD Operations, Office 6, Import Administration, International Trade Administration, U.S. Department of Commerce, 14th Street and Constitution Avenue, NW., Washington, DC 20230; telephone: (202) 482-1398 or (202) 482-0197, respectively.

SUPPLEMENTARY INFORMATION:

Scope of the Antidumping Duty Order

Effective March 11, 2003, in accordance with Allegheny Ludlum Corp. v. United States, 287 F.3d 1365 (Fed. Cir. 2002) remanded to CIT No. 99-06-00361, slip op. 2002-147 (CIT Dec. 12, 2002), and Notice of Amended Antidumping Duty Orders: Certain Stainless Steel Plate in Coils from Belgium, Canada, Italy, the Republic of Korea, South Africa, and Taiwan, 68 FR 11520 (March 11, 2003), the scope of this order was amended. Therefore, for purposes of this review, there were separate scopes in effect during the period of review (POR).

Scope of Order From May 1, 2002 Through March 10, 2003

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars. In addition, certain cold-rolled stainless steel plate in coils is also excluded from the scope of this order. The excluded cold-rolled stainless steel plate in coils is defined as that merchandise which meets the physical characteristics described above that has undergone a cold-reduction process that reduced the thickness of the steel by 25 percent or more, and has been annealed and pickled after this cold reduction process.

The merchandise subject to this order is currently classifiable in the Harmonized Tariff Schedule of the United States (HTS) at subheadings: 7219110030, 7219110060, 7219120005, 7219120020, 7219120025, 7219120050, 7219120055, 7219120065, 7219120070, 7219120080, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and customs purposes, the written description of the scope of this order is dispositive.

Scope of Order on or After March 11, 2003

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils, (2) plate that is not annealed or otherwise heat treated and pickled or otherwise descaled, (3) sheet and strip, and (4) flat bars.

The merchandise subject to this order is currently classifiable in the HTS at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and customs purposes, the written description of the merchandise subject to these orders is dispositive.

Amendment of Final Results

On December 14, 2004, the Department published the Final Results of the administrative review of the antidumping duty order on stainless steel plate in coils for the period May 1, 2002, through April 30, 2003. See Final Results. In accordance with section 751(h) of the Act and 19 CFR 351.224(c)(2), on December 14, 2004, Respondent timely filed an allegation that the Department made ministerial errors in the final results. The Department is amending the Final Results to correct these errors, as detailed below.

First, Respondent states that the Department expressed its intention to correct certain gross unit prices in the home market sales database based on pre-verification corrections, as stated in the Memorandum to The File from Toni Page and Elfi Blum through Maria MacKay: Analysis for Ugine & ALZ, N.V. Belgium (U&A Belgium) for the Final Results of the Fourth Administrative Review of Stainless Steel Plate in Coils (SSPC) from Belgium, dated December 7, 2004 (Analysis Memorandum).

Respondent further states that the Department, in making those changes in the home market (HM) sales program, identifies the sales to be corrected by referring to the observation number of those sales. However, Respondent contends, the observation numbers identified in the Department's HM sales program are not the observation numbers of the sales the Department intended to correct. Respondent provided a list of the observation numbers Respondent claims are the correct numbers,¹ and states that the Department should use these numbers in identifying the appropriate sales. Second, Respondent alleges that the Department, when recalculating the HM credit expense to account for a revision to the HM short-term borrowing rate in the HM sales program, inadvertently subtracted the date of payment from the date of shipment. The appropriate method for determining credit expenses, Respondent argues, is to subtract the date of shipment from the date of payment. Third, Respondent argues, that the Department failed to re-calculate inventory carrying cost based on the revised short-term borrowing rate. Petitioners did not file comments in response to Respondent's ministerial error allegations.

¹ Respondent attached the sales verification exhibit 1, showing the invoice number, the skid number, the originally reported gross unit price, the corrected gross unit price, and the weight of the skid.

The Act, and the Department's regulations, define a ministerial error as one involving “addition, subtraction, or other arithmetic function, clerical error resulting from inaccurate copying, duplication or the like, and any other similar type of unintentional error which the Secretary considers ministerial.” See section 751(h) of the Act and 19 CFR 351.224(f).

After reviewing Respondent's allegations, we have determined, in accordance with section 751(h) of the Act and 19 CFR 351.224, that the three allegations constitute ministerial errors. Regarding its first allegation, we agree with Respondent that the Department inadvertently identified the incorrect observation numbers for those sales with a revised gross unit price. See Analysis Memorandum, p. 2-3. Further, as Respondent alleged, when recalculating credit expenses based on the revised interest rate obtained at verification, we erroneously subtracted the pay date from the ship date to arrive at the credit period instead of subtracting ship date from pay date. We also agree with Respondent's final allegation that we inadvertently failed to recalculate the inventory carrying costs based on the revised interest rate. Therefore, we are amending the Final Results to correct the above-mentioned ministerial errors. All changes to the programming language in the HM sales program can be found in the analysis memorandum for the amended final results. See Memorandum to The File from Toni Page and Elfi Blum through Maria MacKay: Analysis for Ugine & ALZ, N.V. Belgium (U&A Belgium) for the Amended Final Results of the Fourth Administrative Review of Stainless Steel Plate in Coils (SSPC) from Belgium, dated January 13, 2005 (Amended Final Analysis Memo). As a result of corrections of the ministerial errors in the Final Results, the revised weight-averaged dumping margin is as follows:

Manufacturer/exporter | Revised margin (percent)
Ugine & ALZ Belgium | 2.71

With respect to Ugine & ALZ, N.V. Belgium (U&A Belgium), the Department will issue appropriate assessment instructions to U.S. Customs and Border Protection (CBP) within 15 days of publication of the amended final results of review. Accordingly, the Department will determine, and CBP will assess, antidumping duties on all entries of subject merchandise from U&A Belgium during the period May 1, 2002, through April 30, 2003, in accordance with these amended final results. The revised cash deposit rate for U&A Belgium shown above is effective on all shipments of the subject merchandise entered, or withdrawn from warehouse, for consumption on or after the date of publication of this notice, and will remain in effect until publication of the final results of the next administrative review.

Consequently, we are issuing and publishing these amended final results and notice in accordance with sections 751(a)(1), 751(h), and 777(i) of the Act, and 19 CFR 351.224(f).

Dated: January 12, 2005.
Barbara E. Tillman,
Acting Assistant Secretary for Import Administration.

[FR Doc. E5-196 Filed 1-18-05; 8:45 am]

BILLING CODE 3510-DS-P